DEPARTMENT OF COMMERCE

National Oceanic and Atmospheric Administration

50 CFR Part 217

RIN 0648-BE53

Taking and Importing Marine Mammals; Taking Marine Mammals Incidental to Seismic Surveys in Cook Inlet, Alaska

AGENCY: National Marine Fisheries Service (NMFS), National Oceanic and Atmospheric Administration (NOAA), Commerce.

ACTION: Proposed rule; extension of comment period.

SUMMARY: On February 23, 2015, the NMFS published its proposed rulemaking to govern the take of marine mammals, by harassment, incidental to conducting a marine geophysical (seismic) survey in Cook Inlet, Alaska from March 1, 2015 to February 29, 2020. The Federal Register document indicated that written comments are due by March 25, 2015. However, in response to a request to extend the public comment period, NMFS has decided to extend the public comment period by an additional 15 calendar days.

DATES: NMFS has extended the public comment period published on February 23, 2015 (80 FR 9509) to April 9, 2015. NMFS must receive written comments and information on or before April 9, 2015.

ADDRESSES: Address comments on the application to Jolie Harrison, Supervisor, Incidental Take Program, Permits and Conservation Division, Office of Protected Resources, National Marine Fisheries Service, 1315 East-West Highway, Silver Spring, MD 20910. The mailbox address for providing email comments is ITP.Young@noaa.gov. Please include 0648-BE53 in the subject line. Comments sent via email to ITP.Young@noaa.gov, including all attachments, must not exceed a 25-megabyte file size. NMFS is not responsible for email comments sent to addresses other than the one provided here.

Instructions: All submitted comments are a part of the public record and NMFS will post them to http://www.nmfs.noaa.gov/pr/permits/incidental.htm#applications without change. All Personal Identifying Information (for example, name, address, etc.) voluntarily submitted by the commenter may be publicly accessible. Do not submit confidential business information or otherwise sensitive or protected information.

FOR FURTHER INFORMATION CONTACT: Sara Young, NMFS, Office of Protected Resources, NMFS (301) 427-8484.

SUPPLEMENTARY INFORMATION: Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

On February 23, 2015, NMFS published a Federal Register notice (80 FR 9509, February 23, 2015) announcing proposed issuance of regulations to Apache Alaska Corporation (Apache) to take marine mammals, by harassment incidental to conducting a seismic survey in Cook Inlet, Alaska March 1, 2015 through February 29, 2020. The 30-day public comment period for the Federal Register notice (80 FR 9509, February 23, 2015) ends on March 25, 2015.

This is the first time that NMFS has proposed to issue regulations for harassment incidental to a seismic survey in Cook Inlet, Alaska.

On March 2, 2015, the Natural Resource Defense Council requested an extension of the public comment period to aid in their review of the proposed rulemaking. NMFS has considered the request and will extend the comment period to April 9, 2015. This extension provides a total of 45 days for public input and continuing Federal agency reviews to inform NMFS' final decision to issue or deny the regulations.

NMFS refers the reader to the February 23, 2015, notice of proposed regulations (80 FR 9509, February 23, 2015) for background information concerning the proposed rulemaking as this notice does not repeat the information here. For additional information about Apache's request and the environmental analyses, please visit the Web site at: http://www.nmfs.noaa.gov/pr/permits/incidental.htm#applications.

Dated: March 11, 2015.
Samuel D. Rauch III,
Deputy Assistant Administrator for Regulatory Programs, National Marine Fisheries Service.

[FR Doc. 2015-06342 Filed 3-18-15; 8:45 am]

BILLING CODE 3510-22-P